DEPARTMENT OF THE INTERIOR

Bureau of Land Management

[17XL1109AF LLUTG01100 L13100000.EJ0000]

Notice of Availability of a Draft Environmental Impact Statement for the Greater Chapita Wells Natural Gas Infill Project, Uintah County, Utah

AGENCY: Bureau of Land Management, Interior.

ACTION: Notice of availability.

SUMMARY: In accordance with the National Environmental Policy Act of 1969, as amended, the Bureau of Land Management (BLM) has prepared a Draft Environmental Impact Statement (EIS) for the Greater Chapita Wells Natural Gas Infill Project and by this notice is announcing the opening of the comment period.

DATES: To ensure comments will be considered, the BLM must receive written comments on the Greater Chapita Wells Draft EIS within 45 days following the date the Environmental Protection Agency publishes its NOA in the Federal Register. The BLM will announce future meetings or hearings and any other public involvement activities at least 15 days in advance through public notices, media releases, and/or mailings.

ADDRESSES: You may submit comments related to the Greater Chapita Wells project by any of the following methods:

• Website: http://go.usa.gov/csKAz.

• Email: UT_Vernal_Comments@blm.gov.

• Fax: 435-781-4410.

• Mail: Bureau of Land Management, Vernal Field Office, 170 South 500 East, Vernal, Utah 84078.

Copies of the Greater Chapita Wells Draft EIS are available in the Vernal Field Office at the above address and website.

FOR FURTHER INFORMATION CONTACT: Stephanie Howard, Project Manager, 435-781-4400; BLM Vernal Field Office, 170 South 500 East, Vernal, UT 84078; showard@blm.gov. Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The BLM published in the September 9, 2009, Federal Register a Notice of Intent to prepare an EIS (74 FR 46458). The Greater Chapita EIS Project Area encompasses approximately 43,109 acres located in Township 8 South, Ranges 22 through 24 East; Township 9 South, Ranges 22 and 23 East; and Township 10 South, Range 23 East, Salt Lake Base and Meridian, about 25 miles south of Vernal, Utah. Of the 43,109 acres within the project area, about 76 percent is Federal surface administered by the BLM; 15 percent is tribal trust surface; 5 percent is State of Utah surface administered by the Utah Trust Lands Administration; and 4 percent is private surface. The entire project is within the exterior boundary of the Uintah and Ouray Reservation (Uncompahgre Indian Country).

Oil and gas drilling has been ongoing within the Chapita project area since 1952. As of March 2014, the project area contained 1,247 active gas wells on 960 well pads, approximately 257 miles of roads, and approximately 268 miles of pipelines. Total existing disturbance in the project area is approximately 3,975 acres, with approximately 1,000 acres under interim reclamation.

The Draft EIS analyzes a proposal by EOG Resources Inc (EOG) to further develop natural gas resources on their Federal leases in the project area. EOG's proposal includes drilling up to 2,808 new wells and constructing associated ancillary transportation, transmission, and water disposal facilities within the project area. The proposed life of the project is 55 years, with drilling and development activities to occur within the first 15 years. The new gas wells would be drilled to the Green River, Wasatch, Mesaverde Group (including the Blackhawk), Mancos, and Dakota formations at depths of 6,000 to 15,000 feet.

The Draft EIS describes and analyzes in detail the impacts of the No Action Alternative, and three action alternatives, including EOG's Proposed Action. Seven additional alternatives were considered, but eliminated from detailed analysis. The alternatives considered in detail include a landscape-scale mitigation plan that incorporates applicant-committed measures, design features (including best management practices), and the mitigation hierarchy, including compensatory mitigation as applicable to minimize or eliminate impacts to the resources of concern. In particular, the Draft EIS action alternatives contain an applicant-committed ozone management strategy designed to provide a reasonable assurance that project implementation would not contribute to the ongoing ozone situation in the Uinta Basin. This strategy contains five approaches to managing project emissions, including: Applicant-committed emission reduction measures; audio, visual, olfactory and infrared monitoring; a commitment to no-net increase of volatile organic compound emissions to be tracked via an emissions balance sheet; ozone training for personnel; and an ozone event action plan. The following is a summary of the main components of the various alternatives:

1. No Action Alternative—The proposed natural gas development on BLM lands and leases as described in the Proposed Action would not be implemented. However, under this alternative, natural gas exploration and development is assumed to continue on Federal, State, and private lands under previous authorizations. Up to 462 new gas wells would be drilled from 425 new well pads and 37 expanded well pads. This alternative also includes expansion of an existing compressor station, construction of 18 liquids gathering system (LGS) facilities, construction of about 93 miles of new roads, construction of 40 miles of surface pipelines, construction of 90 miles of buried pipelines, and construction of 33 miles of powerlines. In all, approximately 2,685 acres would be disturbed under this alternative. It is estimated that 1,272 acres would be subject to interim reclamation.

2. Proposed Action—Under this alternative, up to 2,808 new gas wells would be drilled from 233 new well pads and 960 expanded well pads. This alternative also includes drilling 3 water disposal wells, constructing 18 LGS facilities, constructing about 49 miles of new roads, constructing 36 miles of surface pipelines, constructing 90 miles of buried pipelines, and constructing 33 miles of powerlines. In all, approximately 2,909 acres would be disturbed under this alternative. It is estimated that 410 acres would be subject to interim reclamation.

3. Resource Protection (BLM-preferred)—Under this alternative, up to 2,808 new gas wells would be drilled from 162 new well pads and 960 expanded well pads. This alternative also includes drilling 3 water disposal wells, constructing 18 LGS facilities, constructing about 36 miles of new roads, constructing 23 miles of surface pipelines, constructing 90 miles of buried pipelines, and constructing 33 miles of powerlines. In all, approximately 2,547 acres would be disturbed under this alternative. It is estimated that 333 acres would be subject to interim reclamation.

4. Other Protections—Under this alternative, up to 2,808 new gas wells would be drilled from 157 new well pads and 880 expanded well pads. This alternative also includes drilling 3 water disposal wells, constructing 18 LGS facilities, constructing about 35 miles of new roads, constructing 102 miles of buried pipelines, and constructing 33 miles of powerlines. In all, approximately 2,629 acres would be disturbed under this alternative. It is estimated that 435 acres would be subject to interim reclamation.

5. Alternatives Considered, but Eliminated from Further Analysis—Seven alternatives were considered, but eliminated from further analysis. These include:

a. Use of Produced Water for Waterflood Projects: A possible alternative would require that produced water be treated, sold, and transported for use in oil field waterflood operations in adjacent fields (the Chapita project itself is not an oil field waterflood project). This alternative would require the construction of treatment and transportation facilities, or the treated water would have to be transported by truck. Either way, this alternative would result in effects greater than the Proposed Action, so it was dismissed from detailed analysis.

b. All Project Wells would be Connected to the LGS: A Federal Energy Regulatory Commission-delineated jurisdictional boundary divides the Chapita project area between power suppliers Moon Lake Electric and Rocky Mountain Power. EOG has contracted with Rocky Mountain Power and is obligated to use that power solely within Rocky Mountain Power's jurisdiction boundary. Also, EOG's current Proposed Action connects as many wells to the electrified LGS as is feasible based on available power, so further expansion of the LGS would require the construction and operation of large hydrocarbon-fueled compressor and generator engines. Therefore, this alternative is technically and economically unfeasible and would result in effects greater than the Proposed Action, so it was dismissed from detailed analysis.

c. All Field Facilities would be Electrified: This alternative was not carried forward for the same reasons as the previous alternative, “All Project Wells would be Connected to the LGS.”

d. Field-Wide Electrification Using Solar Panel Generation: A solar panel facility sufficient to generate the power needed to electrify the Chapita project area (an estimated 40 megawatts), would cover about 200 acres. The cost would be an estimated $300 million. In addition, backup power via gas-fired generators would be needed. Therefore, this alternative is technically and economically unfeasible and would result in effects greater than the Proposed Action, so it was dismissed from detailed analysis.

e. New Roads Limited to a 14-foot running surface: Because of vehicle safety concerns (safe passing width and road stability issues) this alternative was dismissed from detailed analysis.

f. New Wellheads within the White River Viewshed would be Placed Below Ground: Alternative D would preclude further surface disturbance within the 100-year floodplain of the White River by prohibiting new wells or well pads within 0.5 mile or line-of-sight of the White River. This alternative is not analyzed in detail in this EIS because it is sufficiently similar to the other protections.

g. Full Field Development: EOG's original proposal included drilling up to 7,028 wells over a 15-year period. When the issue of high concentrations of winter-time ground level ozone in the Uinta Basin was recognized, EOG reduced its well count (among other commitments) to reduce emission of pollutants, in particular ozone precursors. This alternative would result in effects greater than the Proposed Action. Accordingly, it was dismissed from detailed analysis.

The public is encouraged to comment on any of these alternatives. The BLM asks that those submitting comments make them as specific as possible with reference to chapters, page numbers, and paragraphs in the Draft EIS document. Comments that contain only opinions or preferences will not receive a formal response; however, they will be considered, and included, as part of the BLM decision-making process. The most useful comments are those that contain new technical or scientific information, identify data gaps in the impact analysis, or provide a technical or scientific rationale for opinions or preferences.

Before including your address, phone number, email address, or other personal identifying information in your comments, please be aware that your entire comment, including your personal identifying information, may be made publicly available at any time. While you can ask us in your comment to withhold your personal identifying information from public review, we cannot guarantee that we will be able to do so.

Edwin L. Roberson,
State Director.

[FR Doc. 2018-03771 Filed 3-8-18; 8:45 am]

BILLING CODE 4310-DQ-P